FEDERAL MARITIME COMMISSION

[Docket No. 15-07]

Goodwin International Ltd v. Air Sea International Forwarding Inc. and Ray Tobia; Notice of Filing of Complaint and Assignment

Notice is given that a complaint has been filed with the Federal Maritime Commission (Commission) by Goodwin International Ltd., hereinafter “Complainant,” against Air Sea International Forwarding Inc. and Ray Tobia, hereinafter “Respondents.” Complainants states it is a United Kingdom corporation that “designs, manufactures, and supplies check valves and exports the check valves internationally.” Complainant alleges that Respondent is a Commission licensed non-vessel operating common carrier and a New Jersey corporation.

Complainant alleges that in connection with delivery of Complainant's imports Respondent collected from Complainant “for the correct duty rate at 5%, and by paying the U.S. Customs through the Customs broker a lower rate at 2%, 3% or zero” and by “filing of false and fraudulent documentation” violated 46 U.S.C. 41102(c), 46 CFR 515.11(a)(1), and 46 CFR 515.31(e).

Complainants seek reparations in the amount of $209,712.24, plus “interest and any penalties, as may be proven during the course of this proceeding, with interest as may lawfully [sic] permitted by law, costs, and attorney's fees.

The full text of the complaint can be found in the Commission's Electronic Reading Room at www.fmc.gov/15-07/.

This proceeding has been assigned to the Office of Administrative Law Judges. Complainant also filed a Motion for Confidential Treatment of certain attachments to the complaint, which will be directed to the Office of Administrative Law Judges. The initial decision of the presiding officer in this proceeding shall be issued by September 6, 2016, and the final decision of the Commission shall be issued by March 6, 2017.

Rachel E. Dickon,
Assistant Secretary.

[FR Doc. 2015-22913 Filed 9-10-15; 8:45 am]

BILLING CODE 6731-AA-P